DEPARTMENT OF HEALTH AND HUMAN SERVICES

Centers for Disease Control and Prevention

Board of Scientific Counselors, Center for Preparedness and Response (BSC, CPR); Correction

Notice is hereby given of a change in the meeting of the Board of Scientific Counselors, Center for Preparedness and Response (BSC, CPR); October 26, 2020, 12:30 p.m. to 3:30 p.m., EDT; which was published in the Federal Register on September 14, 2020 Volume 85, Number 178, page 56618.

The meeting time, matters to be considered and contact information should read as follows:

DATES: The webinar meeting will be held on October 26, 2020, from 12:30 p.m. to 1:30 p.m., EDT.

SUPPLEMENTARY INFORMATION:

Purpose: This Board is charged with providing advice and guidance to the Secretary, Department of Health and Human Services (HHS), the Assistant Secretary for Health (ASH), the Director, Centers for Disease Control and Prevention (CDC), and the Director, Center for Preparedness and Response (CPR), concerning strategies and goals for the programs and research within CPR, monitoring the overall strategic direction and focus of the CPR Divisions and Offices, and administration and oversight of peer review for CPR scientific programs. For additional information about the Board, please visit: https://www.cdc.gov/cpr/bsc/index.htm.

Matters to be Considered: The agenda will include: (1) CPR Updates from the Director; and (2) BSC, CPR Polio Containment Workgroup (PCWG) Update.

FOR FURTHER INFORMATION CONTACT: Dometa Ouisley, Office of Science and Public Health Practice, Centers for Disease Control and Prevention, 1600 Clifton Road NE, Mailstop H21-6, Atlanta, Georgia 30329, Telephone: (404) 639-7450; Email: OPHPR.BSC.Questions@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit,Office of the Chief Operating Officer,Centers for Disease Control and Prevention.

[FR Doc. 2020-24506 Filed 11-4-20; 8:45 am]

BILLING CODE 4163-18-P